DEPARTMENT OF COMMERCE

United States Patent and Trademark Office

Trademark Processing

ACTION: Proposed collection; comment request.

SUMMARY: The United States Patent and Trademark Office (USPTO), as part of its continuing effort to reduce paperwork and respondent burden, invites the general public and other Federal agencies to comment on the submission of a revision of a currently approved information collection, as required by the Paperwork Reduction Act of 1995, Public Law 104-13 (44 U.S.C. 3506(c)(2)(A)).

DATES: Written comments must be submitted on or before June 1, 2001.

ADDRESSES: Direct all written comments to Susan K. Brown, Records Officer, Office of Data Management, Data Administration Division, USPTO, Suite 310, Crystal Park 3, Washington, DC 20231; by telephone at 703-308-7400; or by e-mail at susan.brown@uspto.gov.

FOR FURTHER INFORMATION CONTACT: Requests for additional information should be directed to Ari Leifman, United States Patent and Trademark Office (USPTO), Washington, DC 20231, by telephone at 703-308-8900 (ext. 155).

SUPPLEMENTARY INFORMATION:

I. Abstract

The United States Patent and Trademark Office (USPTO) administers the Trademark Act, 15 U.S.C. 1051 et. seq, which provides for the Federal registration of trademarks, service marks, collective trademarks and service marks, collective membership marks, and certification marks. Individuals and businesses who use their marks, or intend to use their marks, in commerce regulable by Congress, may file an application with the USPTO to register their mark. The mark will remain on the register for ten years. However, the registration will be canceled unless the owner files an affidavit with the USPTO attesting to the continued use (or excusable non-use) of the mark in commerce. The registration may be renewed for periods of ten years.

The rules implementing the Act are set forth in 37 CFR Part 2. These rules mandate that each register entry contain the mark, the goods and/or services that the mark is used in connection with, identifying ownership information, dates of use, and certain other information. The USPTO also provides similar information concerning pending applications. The register and pending application information may be accessed by an individual, or by businesses, to determine availability of a mark. By accessing the USPTO's information, potential trademark owners may reduce the possibility of initiating use of a mark previously adopted by another. The Federal Trademark Registration process serves to reduce the filing of papers in court and between parties.

The information collected can be provided using forms furnished by the USPTO. All of these forms are provided on printed paper, and various of these forms are also provided in electronic format, through the USPTO's Trademark Electronic Application System (TEAS). The TEAS forms, in turn, are provided in two different formats, known respectively as ETEAS and PRINTEAS. ETEAS forms are completed on-line and then transmitted to the USPTO electronically, via the Internet. PRINTEAS forms are completed on-line, printed by the user, and then mailed or hand-delivered to the USPTO. Payment of fees associated with a paper submission is made by check, money order, credit card, or through an authorization to charge a USPTO deposit account. Payment of fees associated with an electronic submission is made by credit card or through an authorization to charge a USPTO deposit account.

The TEAS system has included a form for applications for registration since October 1, 1998. In April 2000, four additional forms were developed for TEAS, namely, the Request for Extension of Time to File a Statement of Use, the Combined Declaration of Use in Commerce/Application for Renewal of Registration of a Mark under §§ 8 and 9; the Declaration of Use of a Mark in Commerce under § 8, and the Affidavit of Incontestability of a Mark under § 15. These forms are being added to this collection.

Additionally, the USPTO is currently developing electronic versions of three additional forms, namely, the Collective Trademark/Service Mark Application, Collective Membership Mark Application, and the Certification Mark Application. It is expected that these forms will be available for use by the end of 2001. These forms are being added to this collection.

The electronic Request to Divide and the Petition to Revive an Abandoned Application are being added to this collection as well.

II. Method of Collection

By mail, by hand, or electronically over the Internet through the USPTO's Trademark Electronic Application System (TEAS). In FY 2000, over 15% of applications for registration were filed electronically.

III. Data

OMB Number: 0651-0009.

Form Number(s): PTO-1478, PTO-1478(A), PTO-4.8, PTO-4.9, PTO-1553, PTO-1581, PTO-205/209, PTO-4.13A, PTO-205/4.13A, and PTO-205-209.

Type of Review: Revision of a currently approved collection.

Affected Public: Business or other non-profit; individuals or households; not-for-profit institutions; farms; the Federal Government; and state, local or tribal government.

Estimated Number of Respondents: 677,151 responses per year.

Estimated Time Per Response: The USPTO estimates that it will take the public an average of 3 minutes to 30 minutes to complete this information, depending on the form. This includes time to gather the necessary information, create the documents, and submit the completed request. The time estimates shown for the electronic forms in this notice are based on the average amount of time needed to complete and electronically file a trademark/service mark application.

Estimated Total Annual Respondent Burden Hours: 144,587 hours per year.

Estimated Total Annual Respondent Cost Burden: Using the professional hourly rate of $175 per hour for associate attorneys in private firms, the USPTO estimates $118,501,425.00 per year for salary costs associated with respondents.

Item | Estimated time for response (minutes) | Estimated annual burden hours | Estimated annual responses
Use-Based Trademark/Service Mark Application, including:
—Trademark/Service Mark Application
—Collective Trademark/Service Mark Application
—Collective Membership Mark Application
—Certification Mark Application | 23 | 27,224 | 71,643
Electronic Use-Based Trademark/Service Mark Application, including:
—Trademark/Service Mark Application
—Collective Trademark/Service Mark Application
—Collective Membership Mark Application
—Certification Mark Application | 21 | 21,493 | 61,408
Intent to Use Trademark/Service Mark Application, including:
—Trademark/Service Mark Application
—Collective Trademark/Service Mark Application
—Collective Membership Mark Application
—Certification Mark Application | 17 | 31,205 | 111,445
Electronic Intent to Use Trademark/Service Mark Application, including:
—Trademark/Service Mark Application
—Collective Trademark/Service Mark Application
—Collective Membership Mark Application
—Certification Mark Application | 15 | 5,331 | 21,322
Application for registration of Trademark/Service Mark under § 44(d) and (e), including:
—Trademark/Service Mark Application
—Collective Trademark/Service Mark Application
—Collective Membership Mark Application
—Certification Mark Application | 20 | 3,940 | 11,940
Electronic application for Registration of Trademark/Service Mark under § 44(d) & (e), including:
—Trademark/Service Mark Application
—Collective Trademark/Service Mark Application
—Collective Membership Mark Application
—Certification Mark Application | 19 | 819 | 2,558
Trademark/Service Mark Allegation of Use (Amendment to Allege Use/Statement of Use) | 13 | 10,657 | 48,440
Electronic Trademark/Service Mark Allegation of Use (Amendment to Allege Use/Statement of Use) | 11 | 3,944 | 20,760
Request for Extension of Time to File a Statement of Use | 10 | 9,270 | 54,530
Electronic Request for Extension of Time to File a Statement of Use | 9 | 3,506 | 23,370
Request to Divide | 5 | 73 | 910
Electronic Request to Divide | 4 | 27 | 390
Affidavit of Use of a Mark in Commerce under § 8 | 11 | 6,002 | 31,590
Electronic Declaration of Use of a Mark in Commerce under § 8 | 10 | 2,302 | 13,540
Combined Affidavit of Use in Commerce & Application for Renewal of Registration of a Mark under §§ 8 & 9 | 14 | 3,128 | 13,600
Electronic Combined Declaration of Use in Commerce & Application for Renewal of Registration of a Mark under §§ 8 & 9 | 12 | 1,224 | 5,830
Affidavit of Incontestability of a Mark under § 15 | 11 | 152 | 800
Electronic Declaration of Incontestability of a Mark under § 15 | 10 | 58 | 340
Combined Affidavit of Use and Incontestability under §§ 8 & 15 | 14 | 1,656 | 7,200
Electronic Combined Declaration of Use and Incontestability under §§ 8 & 15 | 12 | 649 | 3,090
Power of Attorney | 3 | 6,397 | 127,930
Designation of Domestic Representative | 3 | 1,706 | 34,115
Trademark Amendments/Corrections/Surrenders | 30 | 3,600 | 7,200
Petition to Revive an Abandoned Application | 4 | 224 | 3,200
Total |  | 144,587 | 677,151

Estimated Total Annual Nonhour Respondent Cost Burden (includes capital start-up costs and filing fees): $128,421,600.00. There are no maintenance costs associated with this information collection.

There are capital start-up costs associated with filing the TEAS forms. If the drawing submitted with a TEAS application is not depicted in typed form, the applicant must provide a digitized image of the drawing. Likewise, digitized images of specimens, if any, must also be provided. The production of these images requires use of either a scanner or a digital camera. The average cost of a scanner is $200, and the average cost of a digital camera is approximately $700. The purchase of either a scanner or a digital camera is not mandatory; applicants who do not own this equipment may complete the electronic application on-line, print this information using PrintTEAS, attach a specimen and drawing, and then mail the entire submission to the USPTO.

There is annual nonhour cost burden in the way of filing fees associated with this collection. The filing fees related to this collection are considered part of the nonhour cost burden of the collection. Following is a chart listing these filing fees/nonhour cost burden. A zero means that there is no fee associated with that requirement. The total annual filing fees/nonhour cost burden is $128,420,700.00.

Item | Responses (a) | Filing fees ($) * (b) | Total non-hour cost burden ($) (a) × (b)
Use-Based Trademark/Service Mark Application, including:
—Trademark/Service Mark Application
—Collective Trademark/Service Mark Application
—Collective Membership Mark Application
—Certification Mark Application | $71,643 | $325.00 | $23,283,975.00
Electronic Use-Based Trademark/Service Mark Application, including:
—Trademark/Service Mark Application
—Collective Trademark/Service Mark Application
—Collective Membership Mark Application
—Certification Mark Application | 61,408 | 325.00 | 19,957,600.00
Intent to Use Trademark/Service Mark Application, including:
—Trademark/Service Mark Application
—Collective Trademark/Service Mark Application
—Collective Membership Mark Application
—Certification Mark Application | 111,445 | 325.00 | 36,219,625.00
Electronic Intent to Use Trademark/Service Mark Application, including:
—Trademark/Service Mark Application
—Collective Trademark/Service Mark Application
—Collective Membership Mark Application
—Certification Mark Application | 21,322 | 325.00 | 6,929,650.00
Application for registration of Trademark/Service Mark under § 44(d) and (e), including:
—Trademark/Service Mark Application
—Collective Trademark/Service Mark Application
—Collective Membership Mark Application
—Certification Mark Application | 11,940 | 325.00 | 3,880,500.00
Electronic application for Registration of Trademark/Service Mark under § 44(d) & (e), including:
—Trademark/Service Mark Application
—Collective Trademark/Service Mark Application
—Collective Membership Mark Application
—Certification Mark Application | 2,558 | 325.00 | 831,350.00
Trademark/Service Mark Allegation of Use (Amendment to Allege Use/Statement of Use) | 48,440 | 100.00 | 4,844,000.00
Electronic Trademark/Service Mark Allegation of Use (Amendment to Allege Use/Statement of Use) | 20,760 | 100.00 | 2,076,000.00
Request for Extension of Time to File a Statement of Use | 54,530 | 150.00 | 8,179,500.00
Electronic Request for Extension of Time to File a Statement of Use | 23,370 | 150.00 | 3,505,500.00
Request to Divide | 910 | 100.00 | 91,000.00
Electronic Request to Divide | 390 | 100.00 | 39,000.00
Affidavit of Use of a Mark in Commerce under § 8 | 31,590 | 100.00 | 3,159,000.00
Electronic Declaration of Use of a Mark in Commerce under § 8 | 13,540 | 100.00 | 1,354,000.00
Combined Affidavit of Use in Commerce & Application for Renewal of Registration of a Mark under §§ 8 & 9 | 13,600 | 500.00 | 6,800,000.00
Electronic Combined Declaration of Use in Commerce & Application for Renewal of Registration of a Mark under §§ 8 & 9 | 5,830 | 500.00 | 2,915,000.00
Affidavit of Incontestability of a Mark under § 15 | 800 | 200.00 | 160,000.00
Electronic Declaration of Incontestability of a Mark under § 15 | 340 | 200.00 | 68,000.00
Combined Affidavit of Use and Incontestability under §§ 8 & 15 | 7,200 | 300.00 | 2,160,000.00
Electronic Combined Declaration of Use and Incontestability under §§ 8 & 15 | 3,090 | 300.00 | 927,000.00
Power of Attorney | 127,930 | None | 0
Designation of Domestic Representative | 34,115 | None | 0
Trademark Amendments/Corrections/Surrenders | 7,200 | 100.00 | 720,000.00
Petition to Revive an Abandoned Application | 3,200 | 100.00 | 320,000.00
Total | 677,151 | 5,050.00 | 128,420,700.00
* Note: All fees listed are based on per class filing.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: March 26, 2001.
Susan K. Brown,
Records Officer, USPTO, Office of Data Management, Data Administration Division.

[FR Doc. 01-8013 Filed 3-30-01; 8:45 am]

BILLING CODE 3510-16-P